DEPARTMENT OF HEALTH AND HUMAN SERVICES

Administration for Community Living

Notice of Intent To Award a Single Source Non-Competing Supplement to the Residential Information Systems Project, University of Minnesota

AGENCY: Administration for Community Living, HHS.

SUMMARY: The Administration for Community Living (ACL) is announcing supplemental funding for the Residential Information Systems Project (RISP) at the University of Minnesota. The RISP project collects and examines national and state by state statistics on all residential services and supports from different sources. Between 2011 and 2016 the Administration on Intellectual and Developmental Disabilities (AIDD) funded the Family Information Systems Project (FISP) to examine the supports and services provided to families with family members with disabilities residing in the family home. The FISP project has created a user-friendly Web site enabling the data to be easily utilized by the public. The Web site includes the annual reports containing data relating to services provided to families in Fiscal Year 2012, Fiscal Year 2013, Fiscal Year 2014 and Fiscal Year 2015. The Web site also includes the infographics, and chart builder products.

With this supplement, data from the FISP will be incorporated into the RISP and the project will be able to continue the collection and examination of the variables related to supports and services provided to families. Specific activities include: Annual state by state data collection, longitudinal analyses of changes in state utilization and expenditures for children vs adults; development and dissemination of one targeted research to practice brief on FISP findings for families and other stakeholders; ongoing FISP technical assistance and webinars and continuation of web-based dissemination of FISP findings though the FISP Web site. In addition, the RISP project will be able to maintain and build upon the established Web site.

SUPPLEMENTARY INFORMATION: Program Name: Residential Information Systems Project, University of Minnesota.

Award Amount: $170,000.00.

Statutory Authority: The Developmental Disabilities Assistance and Bill of Rights Act of 2000, Public Law 106-402 (Oct 30, 2000).

Catalog of Federal Domestic Assistance (CFDA) Number: 93.631 Discretionary Projects.

Program Description: The Residential Information Systems Project in one of three longitudinal data collection projects funded by the Administration on Intellectual and Developmental Disabilities, an agency of the U.S. Administration for Community Living. RISP is a study of annual state-by-state and national statistics on residential services and supports for people with intellectual and developmental disabilities. The project includes funding for supports and services from a variety of sources, including public and non-public, Medicaid-funded and non-Medicaid-funded residential and supportive services.

Agency Contact: For further information or comments regarding this supplemental action, contact Katherine Cargill-Willis, U.S. Department of Health and Human Services, Administration for Community Living, Administration for Intellectual and Developmental Disabilities, 330 C Street SW., Washington, DC 20201; telephone 202-795-7322; email Katherine.cargill-willis@acl.hhs.gov.

Dated: June 28, 2016.
Kathy Greenlee,
Administrator and Assistant Secretary for Aging.

[FR Doc. 2016-15852 Filed 7-1-16; 8:45 am]

BILLING CODE 4154-01-P